DEPARTMENT OF HOMELAND SECURITY

Coast Guard

33 CFR Part 117

[USCG-2008-0486]

Drawbridge Operation Regulations; Long Island, New York Inland Waterway From East Rockaway Inlet to Shinnecock Canal, Hempstead, NY, Public Event

AGENCY: Coast Guard, DHS.

ACTION: Notice of temporary deviation from regulations.

SUMMARY: The Commander, First Coast Guard District, has issued a temporary deviation from the regulation governing the operation of the Meadowbrook State Parkway Bridge across Sloop Channel at mile 12.8, at Hempstead, New York. Under this temporary deviation the bridge may remain in the closed position for 2½ hours to facilitate public safety during a public event, the Veterans Fireworks Display.

DATES: This deviation is effective from 9:30 p.m. through 11:59 p.m. on June 28, 2008 and in the case of rain, from 9:30 p.m. to 11:59 p.m. on June 29, 2008.

ADDRESSES: Documents indicated in this preamble as being available in the docket are part of docket USCG-2008-0486 and are available online at http://www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 3 p.m., Monday through Friday, except Federal holidays.

FOR FURTHER INFORMATION CONTACT: Judy Leung-Yee, Project Officer, First Coast Guard District, at (212) 668-7165.

SUPPLEMENTARY INFORMATION: The Meadowbrook State Parkway Bridge has a vertical clearance in the closed position of 22 feet at mean high water and 25 feet at mean low water. The existing drawbridge operation regulations are listed at 33 CFR § 117.799(h)(2).

The waterway has seasonal recreational vessels and fishing vessels of various sizes.

The Town of Hempstead, Department of Public Safety, requested a temporary deviation to facilitate a public event, the Veteran's Fireworks Display on June 28, 2008.

Under this temporary deviation, in effect between 9:30 p.m. and 11:59 p.m. on June 28, 2008, the Meadowbrook State Parkway Bridge at mile 12.8, across Sloop Channel, may remain in the closed position. Vessels that can pass under the bridge without a bridge opening may do so at all times.

In the event of inclement weather on June 28, 2008, the deviation will be in effect on June 29, 2008, from 9:30 p.m. to 11:59 p.m., as a rain date.

In accordance with 33 CFR 117.35(e), the bridge must return to its regular operating schedule immediately at the end of the designated time period. This deviation from the operating regulations is authorized under 33 CFR 117.35.

Dated: June 11, 2008.
Gary Kassof,
Bridge Program Manager, First Coast Guard District.

[FR Doc. E8-13863 Filed 6-18-08; 8:45 am]

BILLING CODE 4910-15-P